DEPARTMENT OF HOMELAND SECURITY

U.S. Customs and Border Protection

Modification of the National Customs Automation Program Test Regarding Post-Summary Corrections for Extensions of Liquidation

AGENCY: U.S. Customs and Border Protection, Department of Homeland Security.

ACTION: General notice.

SUMMARY: This document announces U.S. Customs and Border Protection's (CBP's) modification to the National Customs Automation Program (NCAP) test pertaining to the processing of post-summary corrections (PSCs). The modification in this notice expands the time period in which a PSC must be filed by allowing a PSC to be transmitted up to 15 days prior to the scheduled date of liquidation when liquidation has been extended. Except to the extent expressly announced or modified by this document, all aspects, rules, terms and conditions announced in previous notices regarding the PSC test remain in effect.

DATES: The modifications announced in this test will become operational on August 14, 2019.

ADDRESSES: Comments concerning this notice and any aspect of this test may be submitted at any time during the test via email to Randy Mitchell, Director, Commercial Operations, Revenue and Entry Division, Trade Policy and Programs, Office of Trade, via email at OTENTRYSUMMARY@cbp.dhs.gov.

FOR FURTHER INFORMATION CONTACT: For policy-related questions, contact Randy Mitchell, Director, Commercial Operations, Revenue and Entry Division, Trade Policy and Programs, Office of Trade, via email at OTENTRYSUMMARY@cbp.dhs.gov. For technical questions related to Automated Broker Interface transmissions, contact your assigned client representative. Interested parties without an assigned client representative should direct their questions to the Client Representative Branch at CLIENTREPOUTREACH@cbp.dhs.gov.

SUPPLEMENTARY INFORMATION:

I. Background

The National Customs Automation Program (NCAP) was established by Subtitle B of Title VI—Customs Modernization in the North American Free Trade Agreement (NAFTA) Implementation Act (Customs Modernization Act) (Pub. L. 103-182, 107 Stat. 2057, 2170, December 8, 1993) (19 U.S.C. 1411). Through NCAP, the thrust of customs modernization was on trade compliance and the development of the Automated Commercial Environment (ACE), the planned successor to the Automated Commercial System (ACS) as the CBP-authorized electronic data interchange (EDI) system. ACE is an automated and electronic system for commercial trade processing which is intended to streamline business processes, facilitate growth in trade, ensure cargo security, and foster participation in global commerce, while ensuring compliance with U.S. laws and regulations and reducing costs for U.S. Customs and Border Protection (CBP) and all of its communities of interest. The ability to meet these objectives depends on successfully modernizing CBP's business functions and the information technology that supports those functions.

CBP's modernization efforts are accomplished through phased releases of ACE component functionality designed to replace specific legacy ACS functions and add new functionality. Section 101.9(b) of title 19 of the Code of Federal Regulations (19 CFR 101.9(b)) provides for the testing of NCAP components. See T.D. 95-21, 60 FR 14211 (March 16, 1995).

On June 24, 2011, CBP published a notice in the Federal Register (76 FR 37136) that announced a plan to conduct an NCAP test concerning new ACE capabilities allowing importers to file a post-summary correction (PSC) for certain entry summaries using the Automated Broker Interface. Through a series of subsequent Federal Register notices, CBP has modified and clarified various aspects of the PSC test. Originally, a PSC had to be transmitted within 270 days after the date of entry, but could not be filed within 20 days prior to the scheduled date of liquidation. However, on November 1, 2017, CBP published a notice in the Federal Register (82 FR 50656) modifying the PSC test to require filing within 300 days after the date of entry or up to 15 days prior to the scheduled liquidation date, whichever date is earlier. In the event that liquidation was extended, there was no change to the PSC deadline.

II. Modification of the PSC Test

This document announces that CBP is extending the deadline for filing a PSC in cases where an importer requests and is granted an extension of liquidation pursuant to 19 CFR 159.12. With this modification, after an importer is granted an extension of liquidation, a PSC must be transmitted up to 15 days prior to the scheduled liquidation date. Accordingly, for test participants, a PSC must be transmitted within 300 days after the date of entry or up to 15 days prior to the scheduled liquidation date, whichever is earlier, except in situations involving an extension of liquidation, in which case a PSC must be transmitted up to 15 days prior to the scheduled liquidation date.

This change is being made to increase the amount of time a filer has to submit a PSC in situations involving extensions of liquidation. Except to the extent expressly announced or modified by this document, all aspects, rules, terms, requirements, obligations and conditions announced in previous notices regarding the PSC test remain in effect.

Dated: August 2, 2019.
Brenda B. Smith,
Executive Assistant Commissioner, Office of Trade.

[FR Doc. 2019-17444 Filed 8-13-19; 8:45 am]

BILLING CODE 9111-14-P